DEPARTMENT OF ENERGY

Federal Energy Regulatory Commission

[Docket No. RP01-598-000]

Midwestern Gas Transmission Company; Notice of Proposed Changes in FERC Gas Tariff

September 13, 2001.

Take notice that on September 7, 2001, Midwestern Gas Transmission Company (Midwestern) tendered for filing to become part of its FERC Gas Tariff, Second Revised Volume No. 1, the following tariff sheets to become effective October 8, 2001:

Sixth Revised Sheet Number 52

Second Revised Sheet Number 110B

Midwestern states that the purpose of this filing is to revise Midwestern's FERC Gas Tariff to allow Midwestern the ability to hold off-system capacity without prior Commission approval. By this filing, Midwestern is adding Section XXXIII, Off-System Services, to its General Terms and Conditions. Midwestern also requests that the Commission grant Midwestern a waiver of the “shipper must hold title to the gas” policy.

Midwestern states that copies of this filing have been sent to all of Midwestern's contracted shippers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23402 Filed 9-19-01; 8:45 am]

BILLING CODE 6717-01-P